INTERNATIONAL TRADE COMMISSION

[Investigation Nos. 731-TA-1347-1348 (Final)]

Biodiesel From Argentina and Indonesia; Supplemental Schedule for the Subject Investigations

AGENCY: United States International Trade Commission.

ACTION: Notice.

DATES: March 1, 2018.

FOR FURTHER INFORMATION CONTACT: Nathanael Comly (202-205-3174), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective August 28, 2017, the Commission established a general schedule for the conduct of the final phase of its investigations on biodiesel,¹ following preliminary determinations by the U.S. Department of Commerce (“Commerce”) that imports of the biodiesel were subsidized by the governments of Argentina and Indonesia. To date, Commerce has issued final affirmative countervailing duty determinations with respect to the biodiesel from Argentina and Indonesia ² and most recently final affirmative antidumping duty determinations with respect to Argentina ³ and Indonesia.⁴ The Commission, therefore, is issuing a supplemental schedule for its antidumping duty investigations on imports of biodiesel from Argentina and Indonesia.

¹ Biodiesel From Argentina and Indonesia; Scheduling of the Final Phase of Countervailing Duty and Antidumping Duty Investigations, 82 FR 43999, September 20, 2017.

² Biodiesel From the Republic of Argentina: Final Affirmative Countervailing Duty Determination, 82 FR 53477, November 16, 2017 and Biodiesel From the Republic Indonesia: Final Affirmative Countervailing Duty Determination, 82 FR 53471, November 16, 2017.

³ Biodiesel from Argentina: Final Determination of Sales at Less Than Fair Value and Final Affirmative Determination of Critical Circumstances, in Part, 83 FR 8837, March 1, 2018.

⁴ Biodiesel from Indonesia: Final Determination of Sales at Less Than Fair Value, 83 FR 8835, March 1, 2018.

The Commission's supplemental schedule is as follows: the deadline for filing supplemental party comments on Commerce's final determinations is March 14, 2018; the staff report in the final phase of these investigations will be placed in the nonpublic record on March 23, 2018; and a public version will be issued thereafter.

Supplemental party comments may address only Commerce's final antidumping duty determinations regarding of biodiesel from Argentina and Indonesia. These supplemental final comments may not contain new factual information and may not exceed five (5) pages in length.

For further information concerning these investigations see the Commission's notice cited above and the Commission's Rules of Practice and Procedure, part 201, subparts A and B (19 CFR part 201), and part 207, subparts A and C (19 CFR part 207).

Authority: This investigation is being conducted under authority of title VII of the Tariff Act of 1930; this notice is published pursuant to section 207.21 of the Commission's rules.

By order of the Commission.
Issued: March 6, 2018.
Lisa R. Barton,
Secretary to the Commission.

[FR Doc. 2018-04849 Filed 3-9-18; 8:45 am]

BILLING CODE 7020-02-P